DEPARTMENT OF ENERGY

Federal Energy Regulatory Commission

Combined Notice of Filings # 1

June 26, 2007.

Take notice that the Commission received the following electric corporate filings:

Docket Number: EC07-66-001; ES07-26-002; EL07-45-001.

Applicants: Entergy Gulf States, Inc.; Entergy Gulf States Louisiana, L.L.C.; Entergy Texas, Inc.

Description: Entergy Services, Inc et al. submit a narrative that explains their proposed journal entries, in response to FERC's 6/1/07 request for additional information.

Filed Date: 06/21/2007.

Accession Number: 20070625-0294.

Comment Date: 5 p.m. Eastern Time on Monday, July 2, 2007.

Docket Number: EC07-109-000.

Applicants: Gexa Energy LLC; FPL Energy LLC.

Description: Gexa Energy LLC and et al. submit an application for authorization of transfer of jurisdictional assets, request for waivers and for expedited action under section 203 of the Federal Power Act.

Filed Date: 06/20/2007.

Accession Number: 20070622-0015.

Comment Date: 5 p.m. Eastern Time on Thursday, July 5, 2007.

Take notice that the Commission received the following electric rate filings:

Docket Number: ER02-1632-003; ER06-386-001.

Applicants: Energy America, LLC; Direct Energy Services, LLC.

Description: Direct Energy Services, LLC and Energy America, LLC submit a notice of Non-Material Change in Status Regarding Market-Based Rate Authority.

Filed Date: 06/21/2007.

Accession Number: 20070621-5088.

Comment Date: 5 p.m. Eastern Time on Thursday, July 12, 2007.

Docket Number: ER07-415-002.

Applicants: DTE Pontiac North LLC.

Description: DTE Pontiac North LLC submits a notice of no material change in status.

Filed Date: 06/19/2007.

Accession Number: 20070621-0122.

Comment Date: 5 p.m. Eastern Time on Tuesday, July 10, 2007.

Docket Number: ER07-788-001.

Applicants: American Electric Power Service Corp.

Description: American Electric Power Service Corporation, designated as agent for AEP Operating Companies submits an amendment to the Interconnection and Local Delivery Service Agreement 1426 with the Village of Republic.

Filed Date: 06/18/2007.

Accession Number: 20070620-0104.

Comment Date: 5 p.m. Eastern Time on Monday, July 09, 2007.

Docket Number: ER07-1040-000.

Applicants: Hopewell Cogeneration Ltd Partnership.

Description: Hopewell Cogeneration Limited Partnership submits an application seeking authorization to sell electric energy, capacity and ancillary services.

Filed Date: 06/15/2007.

Accession Number: 20070619-0132.

Comment Date: 5 p.m. Eastern Time on Friday, July 06, 2007.

Docket Number: ER07-1044-000.

Applicants: PacifiCorp.

Description: PacifiCorp submits the First Revised Sheet 109 et al. to Substitute First Revised Rate Schedule, Amended and Restated AC Intertie Agreement with Bonneville Power Administration.

Filed Date: 06/15/2007.

Accession Number: 20070619-0133.

Comment Date: 5 p.m. Eastern Time on Friday, July 06, 2007.

Docket Number: ER07-1049-000.

Applicants: PacifiCorp.

Description: PacifiCorp submits a Notice of Termination of Service Agreement 67 dated 8/1/97 with Black Bills Corporation for Network Integration Transmission Service.

Filed Date: 06/19/2007.

Accession Number: 20070620-0163.

Comment Date: 5 p.m. Eastern Time on Tuesday, July 10, 2007.

Docket Number: ER07-1050-000.

Applicants: PJM Interconnection, L.L.C.

Description: PJM Interconnection, LLC submits revisions to the PJM Open Access Transmission Tariff and the Reliability Assurance Agreement.

Filed Date: 06/19/2007.

Accession Number: 20070621-0121.

Comment Date: 5 p.m. Eastern Time on Tuesday, July 10, 2007.

Docket Number: ER07-1051-000.

Applicants: Texzon Utilities, Ltd.

Description: Texzon Utilities Ltd submits a notice of succession reflecting their name change.

Filed Date: 06/20/2007.

Accession Number: 20070620-0164.

Comment Date: 5 p.m. Eastern Time on Wednesday, July 11, 2007.

Docket Number: ER07-1052-000.

Applicants: PacifiCorp

Description: PacifiCorp submits an unexecuted Network Integration Transmission Service Agreement with Black Hills Corporation designated as Original Service Agreement 347 to FERC Electric Tariff, Sub Sixth Revised Volume 11.

Filed Date: 06/19/2007.

Accession Number: 20070620-0165.

Comment Date: 5 p.m. Eastern Time on Tuesday, July 10, 2007.

Docket Number: ER07-1053-000.

Applicants: PJM Interconnection, L.L.C.

Description: PJM Interconnection, LLC submits revisions to its Amended and Restated Operating Agreement and Open Access Transmission Tariff pursuant to section 205 of the FPA.

Filed Date: 06/19/2007.

Accession Number: 20070621-0123.

Comment Date: 5 p.m. Eastern Time on Tuesday, July 10, 2007.

Docket Number: ER07-1054-000.

Applicants: Southern Company Services, Inc.

Description: Southern Company Services, Inc, as agent for Alabama Power Company et al. submits a service agreement for long-term firm point-to-point transmission service under the Open Access Transmission Tariff of its FERC Electric Tariff, Fourth Revised Volume 5.

Filed Date: 06/20/2007.

Accession Number: 20070621-0068.

Comment Date: 5 p.m. Eastern Time on Wednesday, July 11, 2007.

Docket Number: ER07-1055-000.

Applicants: Northeast Utilities Service Company.

Description: Northeast Utilities Service Co, on behalf of Connecticut Light and Power Company et al. submits a Notice of Termination to cancel the Nu Operating Companies' Service Agreement 2 to FERC Electric Tariff, Original Volume 8 etc.

Filed Date: 06/20/2007.

Accession Number: 20070621-0069.

Comment Date: 5 p.m. Eastern Time on Wednesday, July 11, 2007.

Docket Number: ER07-1056-000.

Applicants: Southern California Edison Company.

Description: Southern California Edison Co submits First Revised Sheet 6 et al. to the Cherry Valley, Crafton Hills and Green Spot Pumping Stations Interconnection Facilities Agreement with the State of California Dept of Water Resources.

Filed Date: 06/20/2007.

Accession Number: 20070621-0070.

Comment Date: 5 p.m. Eastern Time on Wednesday, July 11, 2007.

Docket Number: ER07-1057-000.

Applicants: Perryville Energy Partners, LLC.

Description: Perryville Energy Partners, LLC submits its Second Revised Sheet 22 to its FERC Electric Tariff, Original Volume 2.

Filed Date: 06/20/2007.

Accession Number: 20070621-0071.

Comment Date: 5 p.m. Eastern Time on Wednesday, July 11, 2007.

Docket Number: ER07-1058-000.

Applicants: Glacial Energy of Maryland Inc.

Description: Glacial Energy of Maryland Inc submits a petition for acceptance of initial tariff, waivers and blanket authority.

Filed Date: 06/21/2007.

Accession Number: 20070622-0013.

Comment Date: 5 p.m. Eastern Time on Thursday, July 12, 2007.

Docket Number: ER07-1059-000.

Applicants: Connecticut Light & Power Company.

Description: The Connecticut Light and Power Co submits revised Interconnection and Operations Agreement with the Lake Road Trust, designated as First Revised Service Agreement 104.

Filed Date: 06/21/2007.

Accession Number: 20070622-0014.

Comment Date: 5 p.m. Eastern Time on Thursday, July 12, 2007.

Docket Number: ER07-1060-000.

Applicants: California Independent System Operator Corporation

Description: California Independent System Operator Corp submits amendment (the SC Certification and Termination Amendment) to the ISO Tariff.

Filed Date: 06/20/2007.

Accession Number: 20070622-0009.

Comment Date: 5 p.m. Eastern Time on Wednesday, July 11, 2007.

Docket Number: ER07-1061-000.

Applicants: AB Energy.

Description: AB Energy, Inc submits a notice of cancellation of its market based rate electric tariff, Rate Schedule FERC 1.

Filed Date: 06/21/2007.

Accession Number: 20070622-0011.

Comment Date: 5 p.m. Eastern Time on Thursday, July 12, 2007.

Docket Number: ER07-1062-000.

Applicants: AB Energy NY, Pty. Ltd.

Description: AB Energy NY, Pty. Ltd submits a petition for acceptance of initial tariff, waivers and blanket authority.

Filed Date: 06/21/2007.

Accession Number: 20070622-0010.

Comment Date: 5 p.m. Eastern Time on Thursday, July 12, 2007.

Take notice that the Commission received the following electric securities filings:

Docket Number: ES07-40-000.

Applicants: Southwest Power Pool, Inc.

Description: Application of Southwest Power Pool, Inc under Section 204 of the Federal Power Act for an order authorizing the issuance of securities.

Filed Date: 06/20/2007.

Accession Number: 20070622-0016.

Comment Date: 5 p.m. Eastern Time on Wednesday, July 11, 2007.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-12808 Filed 7-2-07; 8:45 am]

BILLING CODE 6717-01-P